DEPARTMENT OF ENERGY

Federal Energy Regulatory Commission

Notice of Intent to File Application For A New License

March 12, 2004.

Take notice that the following notice of intent has been filed with the Commission and is available for public inspection:

a. Type of Filing: Notice of intent to file an application for new license.

b. Project No.: 120.

c. Date Filed: February 27, 2004.

d. Submitted by: Southern California Edison Company.

e. Name of Project: Big Creek No. 3 Hydroelectric Project.

f. Location: The project is located in Fresno County, California, within the Sierra National Forest. The project is situated on the San Joaquin River with the nearest towns being Big Creek, Shaver Lake, North Fork, and Auberry.

g. Filed Pursuant to: Section 15 of the Federal Power Act, 18 CFR 16.6.

h. Pursuant to section 16.19 of the Commission's regulations, the licensee is required to make available the information described in section 16.7 of the regulations. Such information is available from the Northern Hydro Regional Office, 54205 Mountain Poplar Road, Big Creek, CA 93605, (559)-893-3611.

i. FERC Contact: James Fargo, 202-502-6095, james.fargo@ferc.gov.

j. Expiration Date of Current License: February 28, 2009.

k. Project Description: The project consists of Dam 6 Forebay, a dam with a capacity of 993 acre-feet, Powerhouse No. 3 with five turbine generators with a total installed capacity of 174.45 megawatts, and the water conveyance system of unlined tunnels, steel piping, penstocks and valving.

l. The licensee states its unequivocal intent to submit an application for a new license for Project No. 120. Pursuant to 18 CFR 16.9(b)(1) each application for a new license and any competing license applications must be filed with the Commission at least 24 months prior to the expiration of the existing license. All applications for license for this project must be filed by February 28, 2007.

n. A copy of this filing is available for review at the Commission in the Public Reference Room or may be viewed on the Commission's Web site at http://www.ferc.gov using the “eLibrary” link. Enter the docket number, excluding the last three digits in the docket number field to access the document. For assistance, contact FERC Online Support at FERCOnlineSupport@ferc.gov or toll-free at 1-866-208-3676, or TTY 202-502-8659. A copy is also available for inspection and reproduction at the address in item h above.

o. Register online at http://www.ferc.gov/docs-filing/esubscription.asp to be notified via email of new filings and issuances related to this or other pending projects. For assistance, contact FERC Online Support as shown in the paragraph above.

Linda Mitry,
Acting Secretary.

[FR Doc. E4-614 Filed 3-17-04; 8:45 am]

BILLING CODE 6717-01-P